INTERNATIONAL TRADE COMMISSION

[USITC SE-07-019]

Government in the Sunshine Act Meeting Notice

Agency Holding the Meeting: United States International Trade Commission.

Time and Date: October 5, 2007 at 11 a.m.

Place: Room 101, 500 E Street, SW., Washington, DC 20436. Telephone: (202) 205-2000.

Status: Open to the public.

Matters to be Considered: 1. Agenda for future meetings: none.

2. Minutes.

3. Ratification List.

4. Inv. Nos. 731-TA-1124 and 1125 (Preliminary) (Electrolytic Manganese Dioxide from Australia and China)—briefing and vote. (The Commission is currently scheduled to transmit its determinations to the Secretary of Commerce on or before October 9, 2007; Commissioners' opinions are currently scheduled to be transmitted to the Secretary of Commerce on or before October 16, 2007.)

5. Outstanding action jackets: None.

In accordance with Commission policy, subject matter listed above, not disposed of at the scheduled meeting, may be carried over to the agenda of the following meeting.

By order of the Commission.
Issued: September 25, 2007.
William R. Bishop,
Hearings and Meetings Coordinator.

[FR Doc. E7-19186 Filed 9-27-07; 8:45 am]

BILLING CODE 7020-02-P